DEPARTMENT OF HEALTH AND HUMAN SERVICES

Centers for Medicare & Medicaid Services

[CMS-7051-CN]

Medicare & Medicaid Programs, and Other Program Initiatives, and Priorities; Meeting of the Advisory Panel on Outreach and Education (APOE), September 26, 2018; Correction

AGENCY: Centers for Medicare & Medicaid Services (CMS), HHS.

ACTION: Correction notice.

SUMMARY: This document corrects a technical error in the meeting notice that appeared in the August 31, 2018 Federal Register titled “Medicare & Medicaid Programs, and Other Program Initiatives, and Priorities; Meeting of the Advisory Panel on Outreach and Education (APOE), September 26, 2018.”

FOR FURTHER INFORMATION CONTACT: Lynne Johnson, (410) 786-0090.

SUPPLEMENTARY INFORMATION:

I. Background and Summary of Errors

In FR Doc. 2018-18961 of August 31, 2018 (83 FR 44632), we made an error in the meeting registration hyperlink.

II. Correction of Errors

In FR Doc. 2018-18961 of August 31, 2018 (83 FR 44632), make the following correction:

1. On page 44632, second column, last paragraph, lines 5 and 6, the hyperlink “https://www.regonline.com/apoe2018sept26meeting/” is corrected to read “https://www.regonline.com/apoe2018sept26meeting”.

Dated: September 12, 2018.
Kathleen Cantwell,
Director, Office of Strategic Operations and Regulatory Affairs.

[FR Doc. 2018-20153 Filed 9-14-18; 8:45 am]

BILLING CODE 4120-01-P